DEPARTMENT OF COMMERCE

Foreign-Trade Zones Board

[S-59-2020]

Foreign-Trade Zone 61—San Juan, Puerto Rico, Application for Subzone, Oldach Associates, LLC, Cataño, Puerto Rico

An application has been submitted to the Foreign-Trade Zones Board (the Board) by the Department of Economic Development and Commerce, grantee of FTZ 61, requesting subzone status for the facility of Oldach Associates, LLC, located in Cataño, Puerto Rico. The application was submitted pursuant to the provisions of the Foreign-Trade Zones Act, as amended (19 U.S.C. 81a-81u), and the regulations of the Board (15 CFR part 400). It was formally docketed on April 7, 2020.

The proposed subzone (2.4896 acres) is located at Road #869, corner of D Street, Las Palmas Industrial Park, Cataño, Puerto Rico. No authorization for production activity has been requested at this time. The proposed subzone would be subject to the existing activation limit of FTZ 61.

In accordance with the Board's regulations, Camille Evans of the FTZ Staff is designated examiner to review the application and make recommendations to the Executive Secretary.

Public comment is invited from interested parties. Submissions shall be addressed to the Board's Executive Secretary and sent to: ftz@trade.gov. The closing period for their receipt is May 26, 2020. Rebuttal comments in response to material submitted during the foregoing period may be submitted during the subsequent 15-day period to June 8, 2020.

A copy of the application will be available for public inspection in the “Reading Room” section of the Board's website, which is accessible via www.trade.gov/ftz.

For further information, contact Camille Evans at Camille.Evans@trade.gov or (202) 482-2350.

Dated: April 7, 2020.
Andrew McGilvray,
Executive Secretary.

[FR Doc. 2020-07793 Filed 4-13-20; 8:45 am]

BILLING CODE 3510-DS-P